DEPARTMENT OF ENERGY

[FE Docket No. 14-206-LNG]

Air Flow North America Corp.; Application for Long-Term, Multi-Contract Authorization To Export Liquefied Natural Gas to Non-Free Trade Agreement Countries

AGENCY: Office of Fossil Energy, DOE.

ACTION: Notice of application.

SUMMARY: The Office of Fossil Energy (FE) of the Department of Energy (DOE) gives notice of receipt of an application (Application), filed by Air Flow North America Corp. (Air Flow), on December 16, 2014, and subsequently amended. In the Application, Air Flow requests long-term, multi-contract authorization to export domestically produced liquefied natural gas (LNG) by use of approved ISO IMO7-TVAC-ASME LNG (ISO) containers transported on ocean-going carriers to any country located within South America, Central America, the Caribbean, or Africa with which the United States does not have a free trade agreement (FTA) that requires national treatment for trade in natural gas, and with which trade is not prohibited by U.S. law or policy (non-FTA countries). Air Flow seeks authorization to export the LNG on its own behalf in a volume equivalent to approximately 0.67 billion cubic feet (Bcf) per year of natural gas, or 0.002 Bcf per day. Air Flow states that it will obtain its LNG supplies from Clean Energy Fuel Corp. (Clean Energy), and seeks authorization to export the LNG by vessel from Clean Energy's existing LNG production facility located in Willis, Texas, which Air Flow states has the capability to load LNG onto trucks and ISO containers.¹ Air Flow states that the LNG would be loaded into its ISO containers; transported via trucks to a seaport in Houston, Texas; then exported by ocean-going cargo vessel from one or more ports in the Southeastern United States (including ports in Texas, Florida, and Louisiana). Air Flow also requests authorization to load at any other U.S. port that is now or in the future will be capable of loading ISO containers. Air Flow asks for the requested authorization to be effective on the date when the order is signed, and to extend until July 31, 2021.² The Application was filed under section 3(a) of the Natural Gas Act (NGA). Additional details can be found in Air Flow's Application, posted on the DOE/FE Web site at: http://energy.gov/fe/downloads/air-flow-north-america-corp-fe-dkt-no-14-206-lng.

¹ In an amendment to the Application filed on May 28, 2015, Air Flow provided additional information about the Clean Energy facility in Willis, Texas (also known as the Pickens Plant). According to Air Flow, the facility, built in 1994, produces 100,000 gallons of LNG per day, and is able to store 1 million gallons of LNG on site. It has one loading rack, allowing one truck to be loaded with LNG at a time, and up to 12 trucks loaded with LNG per day. See Air Flow North America Corp., Amendment, FE Docket No. 14-206-LNG (May 28, 2015) [Second Amendment].

² Air Flow requested this authorization period in an amendment to the Application filed on April 30, 2015, to ensure that the Application accurately reflects Air Flow's contract with Clean Energy. It supersedes the authorization period requested in the Application. See Air Flow North America Corp., Amendment, FE Docket No. 14-206-LNG (April 30, 2015) [First Amendment].

Protests, motions to intervene, notices of intervention, and written comments are invited.

DATES: Protests, motions to intervene or notices of intervention, as applicable, requests for additional procedures, and written comments are to be filed using procedures detailed in the Public Comment Procedures section no later than 4:30 p.m., Eastern time, August 28, 2015.

ADDRESSES:

Electronic Filing by email: fergas@hq.doe.gov.

Regular Mail: U.S. Department of Energy (FE-34), Office of Oil and Gas Global Security and Supply, Office of Fossil Energy, P.O. Box 44375, Washington, DC 20026-4375.

Hand Delivery or Private Delivery Services (e.g., FedEx, UPS, etc.): U.S. Department of Energy (FE-34), Office of Oil and Gas Global Security and Supply, Office of Fossil Energy, Forrestal Building, Room 3E-042, 1000 Independence Avenue SW., Washington, DC 20585.

FOR FURTHER INFORMATION CONTACT:

Larine Moore or Marc Talbert, U.S. Department of Energy (FE-34), Office of Oil and Gas Global Security and Supply, Office of Fossil Energy, Forrestal Building, Room 3E-042, 1000 Independence Avenue SW., Washington, DC 20585, (202) 586-9478; (202) 586-7991.

Cassandra Bernstein, U.S. Department of Energy (GC-76), Office of the Assistant General Counsel for Electricity and Fossil Energy, Forrestal Building, 1000 Independence Ave. SW., Washington, DC 20585, (202) 586-9793.

SUPPLEMENTARY INFORMATION:

DOE/FE Evaluation

The Application will be reviewed pursuant to section 3(a) of the NGA, 15 U.S.C. 717b(a), and DOE will consider any issues required by law or policy. To the extent determined to be relevant, these issues will include the domestic need for the natural gas proposed to be exported, the adequacy of domestic natural gas supply, U.S. energy security, and the cumulative impact of the requested authorization and any other LNG export application(s) previously approved on domestic natural gas supply and demand fundamentals. DOE may also consider other factors bearing on the public interest, including the impact of the proposed exports on the U.S. economy (including GDP, consumers, and industry), job creation, the U.S. balance of trade, and international considerations; and whether the authorization is consistent with DOE's policy of promoting competition in the marketplace by allowing commercial parties to freely negotiate their own trade arrangements. Additionally, DOE will consider the following environmental document: Addendum to Environmental Review Documents Concerning Exports of Natural Gas From the United States, 79 FR 48132 (Aug. 15, 2014).³ Parties that may oppose this Application should address these issues in their comments and/or protests, as well as other issues deemed relevant to the Application.

³ The Addendum and related documents are available at: http://energy.gov/fe/draft-addendum-environmental-review-documents-concerning-exports-natural-gas-united-states.

The National Environmental Policy Act (NEPA), 42 U.S.C. 4321 et seq., requires DOE to give appropriate consideration to the environmental effects of its decisions. No final decision will be issued in this proceeding until DOE has met its environmental responsibilities.

Public Comment Procedures

In response to this Notice, any person may file a protest, comments, or a motion to intervene or notice of intervention, as applicable. Due to the complexity of the issues raised by the Applicant, interested persons will be provided 60 days from the date of publication of this Notice in which to submit comments, protests, motions to intervene, or notices of intervention.

Any person wishing to become a party to the proceeding must file a motion to intervene or notice of intervention. The filing of comments or a protest with respect to the Application will not serve to make the commenter or protestant a party to the proceeding, although protests and comments received from persons who are not parties will be considered in determining the appropriate action to be taken on the Application. All protests, comments, motions to intervene, or notices of intervention must meet the requirements specified by the regulations in 10 CFR part 590.

Filings may be submitted using one of the following methods: (1) Emailing the filing to fergas@hq.doe.gov, with FE Docket No. 14-206-LNG in the title line; (2) mailing an original and three paper copies of the filing to the Office of Oil and Gas Global Security and Supply at the address listed in ADDRESSES; or (3) hand delivering an original and three paper copies of the filing to the Office of Oil and Gas Global Supply at the address listed in ADDRESSES. All filings must include a reference to FE Docket No. 14-206-LNG. Please Note: If submitting a filing via email, please include all related documents and attachments (e.g., exhibits) in the original email correspondence. Please do not include any active hyperlinks or password protection in any of the documents or attachments related to the filing. All electronic filings submitted to DOE must follow these guidelines to ensure that all documents are filed in a timely manner. Any hardcopy filing submitted greater in length than 50 pages must also include, at the time of the filing, a digital copy on disk of the entire submission.

A decisional record on the Application will be developed through responses to this notice by parties, including the parties' written comments and replies thereto. Additional procedures will be used as necessary to achieve a complete understanding of the facts and issues. If an additional procedure is scheduled, notice will be provided to all parties. If no party requests additional procedures, a final Opinion and Order may be issued based on the official record, including the Application and responses filed by parties pursuant to this notice, in accordance with 10 CFR 590.316.

The Application is available for inspection and copying in the Division of Natural Gas Regulatory Activities docket room, Room 3E-042, 1000 Independence Avenue SW., Washington, DC 20585. The docket room is open between the hours of 8:00 a.m. and 4:30 p.m., Monday through Friday, except Federal holidays. The Application and any filed protests, motions to intervene or notice of interventions, and comments will also be available electronically by going to the following DOE/FE Web address: http://www.fe.doe.gov/programs/gasregulation/index.html.

Issued in Washington, DC, on June 23, 2015.
John A. Anderson,
Director, Office of Oil and Gas Global Security and Supply, Office of Oil and Natural Gas.

[FR Doc. 2015-15882 Filed 6-26-15; 8:45 am]

BILLING CODE 6450-01-P